DEPARTMENT OF THE INTERIOR

Bureau of Ocean Energy Management

[Docket No. BOEM-2015-0068; MMAA10400]

Outer Continental Shelf (OCS), Alaska Region, Beaufort Sea Planning Area, Liberty Development and Production Plan, Extension of Public Scoping Comment Period

AGENCY: Bureau of Ocean Energy Management (BOEM), Interior.

ACTION: Extension of public scoping comment period.

SUMMARY: On September 25, 2015, BOEM published a Notice of Intent (NOI) to Prepare an Environmental Impact Statement (EIS) for the Liberty Development and Production Plan (DPP) in the Beaufort Sea Planning Area (80 FR 57873). The September 25 notice provided for a 60-day comment period, which is scheduled to end on November 24, 2015. During BOEM's scoping, the pubic recommended extending the comment period. To further the intent of the National Environmental Policy Act (NEPA) to collect information to define the scope of issues to be addressed in depth in the analyses that will be included in the EIS, and to provide additional opportunity for interested and affected parties to comment, BOEM is extending the scoping comment period for an additional 60 days to January 26, 2016.

DATES: Scoping comments should be submitted by January 26, 2016.

FOR FURTHER INFORMATION CONTACT: For information on the Liberty DPP EIS or BOEM's policies associated with this notice, please contact Lauren Boldrick, Project Manager, BOEM, Alaska OCS Region, 3801 Centerpoint Drive, Suite 500, Anchorage, AK 99503, telephone (907) 334-5227.

SUPPLEMENTARY INFORMATION: Federal, State, Tribal, and local governments and/or agencies and other interested parties may submit written comments on the scope of the EIS through the Federal eRulemaking Portal: http://www.regulations.gov. In the field entitled “Enter Keyword or ID,” enter [Docket No. BOEM-2015-0068], and then click “search.” Follow the instructions to submit public comments and view supporting and related materials available for this notice.

Before including your address, phone number, email address or other personal identifying information in your comment, you should be aware that your entire comment, including your personal identifying information, may be made publicly available at any time. While you can ask us in your comments to withhold your personal identifying information from public review, we cannot guarantee that we will be able to do so.

Authority: The NOI to prepare an EIS was issued pursuant to the National Environmental Policy Act of 1969, as amended (42 U.S.C. 4231 et seq.), and implementing regulations at 40 CFR 1501.7 and 43 CFR 46.415.

Dated: November 18, 2015.
Abigail Ross Hopper,
Director, Bureau of Ocean Energy Management.

[FR Doc. 2015-30301 Filed 11-27-15; 8:45 am]

BILLING CODE 4310-MR-P